OFFICE OF PERSONNEL MANAGEMENT

Submission for Review: CyberCorps®: Scholarship For Service (SFS) Registration Web Site

AGENCY: U.S. Office of Personnel Management.

ACTION: 60-Day Notice and request for comments.

SUMMARY: The Human Resources Solutions, Office of Personnel Management (OPM) offers the general public and other Federal agencies the opportunity to comment on an existing information collection request (ICR) 3206-0246, SFS Registration. As required by the Paperwork Reduction Act of 1995, (Pub. L. 104-13, 44 U.S.C. chapter 35) as amended by the Clinger-Cohen Act (Pub. L. 104-106), OPM is soliciting comments for this collection. The Office of Management and Budget is particularly interested in comments that:

1. Evaluate whether the proposed collection of information is necessary for the proper performance of the functions of OPM, including whether the information will have practical utility;

2. Evaluate the accuracy of OPM's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

DATES: Comments are encouraged and will be accepted until July 8, 2013. This process is conducted in accordance with 5 CFR 1320.1.

ADDRESSES: Interested persons are invited to submit written comments on the proposed information collection to U.S. Office of Personnel Management, Mid-Atlantic Services Branch, 200 Granby Street, Suite 500, Norfolk, VA 23510-1886, Attention: Kathy Roberson or sent via electronic mail to sfs@opm.gov.

FOR FURTHER INFORMATION CONTACT: A copy of this ICR, with applicable supporting documentation, may be obtained by contacting the Mid-Atlantic Services Branch, 200 Granby Street, Suite 500, Norfolk, VA 23510-1886, Attention: Kathy Roberson or sent via electronic mail to sfs@opm.gov.

SUPPLEMENTARY INFORMATION: The SFS Program was established by the National Science Foundation in accordance with the Federal Cyber Service Training and Education Initiative as described in the President's National Plan for Information Systems Protection. This program seeks to increase the number of qualified students entering the fields of information assurance and computer security in an effort to respond to the threat to the Federal Government's information technology infrastructure. The program provides selected 4-year colleges and universities scholarship grants to attract students to the information assurance field. Participating students who receive scholarships from this program are required to serve a 10-week internship during their studies and complete a post-graduation employment commitment equivalent to the length of the scholarship or one year, whichever is longer. Approval of the Web page is necessary to facilitate the timely registration, selection and placement of program-enrolled students in Government agencies.

Analysis

Agency: CyberCorps®: Scholarship For Service Program, Office of Personnel Management.

Title: Scholarship For Service (SFS) Program Internet Site.

OMB Number: 3260-0246.

Frequency: Annually.

Affected Public: Individuals or Households.

Number of Respondents: 630.

Estimated Time per Respondent: 1 hour.

Total Burden Hours: 630 hours.

U.S. Office of Personnel Management.
Elaine Kaplan,
Acting Director.

[FR Doc. 2013-10717 Filed 5-6-13; 8:45 am]

BILLING CODE 6325-38-P